DEPARTMENT OF COMMERCE

International Trade Administration

Notice of Scope Rulings

AGENCY: Enforcement and Compliance, International Trade Administration, Department of Commerce.

DATES: Applicable June 4, 2024.

SUMMARY: The U.S. Department of Commerce (Commerce) hereby publishes a list of scope rulings and circumvention determinations made during the period October 1, 2023, through December 31, 2023. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on December 13, 2023.² This current notice covers all scope rulings made by Enforcement and Compliance between October 1, 2023, and December 31, 2023.

¹ See 19 CFR 351.225(o).

² See Notice of Scope Rulings, 88 FR 86320 (December 13, 2023).

Scope Rulings Made October 1, 2023, Through December 31, 2023

Bahrain

A-525-001 and C-525-002: Common Alloy Aluminum Sheet From Bahrain

Requestor: FCC Metals LLC. Finished aluminum coil for use in roofing products is covered by the scope of the antidumping and countervailing duty orders on common alloy aluminum sheet from Bahrain because the merchandise produced and exported from Bahrain and further processed in Jordan entered the United States as in-scope merchandise; November 8, 2023.

India

A-533-883 and C-533-884: Glycine From India

Requestor: GEO Specialty Chemicals, Inc. Calcium glycinate is not covered by the scope of the antidumping or countervailing duty orders on glycine from India, because calcium glycinate is a precursor of glycine and calcium glycinate is not a type of glycine: October 11, 2023.

A-533-865 and C-533-866: Certain Cold-Rolled Steel Flat Products From India

Requestor: SIGMA Corporation. An end module side cover and certain cable tray connection brackets are not covered by the scope of the antidumping or countervailing duty orders on certain cold-rolled steel flat products from India because they are not cold-rolled flat-rolled steel products but are components of modular battery storage assemblies: December 13, 2023.

Japan

A-588-878: Glycine From Japan

Requestor: GEO Specialty Chemicals, Inc. Calcium glycinate is not covered by the scope of the antidumping duty order on glycine from Japan because calcium glycinate is a precursor of glycine and calcium glycinate is not a type of glycine: October 11, 2023.

People's Republic of China (China)

C-570-081: Glycine From China

Requestor: GEO Specialty Chemicals, Inc. Calcium glycinate is not covered by the scope of the countervailing duty order on glycine from China because calcium glycinate is a precursor of glycine and calcium glycinate is not a type of glycine: October 11, 2023.

A-570-967 and C-570-968: Aluminum Extrusions From China

Requestor: Wagner Spray Tech Corporation. Wagner Spray Tech Corporation's part number 805-324 manifold is covered by the scope of the antidumping and countervailing duty orders on aluminum extrusions from China because it does not satisfy the design and testing requirements that would qualify for the “finished heat sink” exception to the orders: October 17, 2023.

A-570-890: Woodend Bedroom Furniture From China

Requestor: Moe's Home Collection Inc. Certain case pieces of furniture are covered by the scope of the antidumping duty order on wooden bedroom furniture from China because they are physically consistent with certain types of wooden bedroom furniture, in some cases were suitable for storing clothes, and were advertised as bedroom furniture: November 22, 2023.

A-570-131 and C-570-132: Twist Ties From China

Requestor: Essential Ribbons, Inc. The twist tie component of twist ties attached with bows are covered by the orders. Commerce determined the twist tie component was within the scope of the orders based on an analysis under19 CFR 351.225(k)(3). First, Commerce examined the merchandise as a whole and found it had multiple components because it was described as having two pieces with different functions and the pieces were either not attached or attached by a single stitch. Then Commerce examined the twist tie component and found it was explicitly covered by the scope in both function and physical description. Finally, Commerce examined if the inclusion of the twist tie with the attachable bow resulted in an exclusion of the scope inquiry merchandise from the scope of the orders. Since there is no exclusion for a twist tie that is a component of merchandise that has a bow, Commerce found the twist tie was not excluded from the orders. The twist tie component of twist ties attached with bows is, therefore, covered by the scope of the orders; November 27, 2023.

A-570-095 and C-570-096: Aluminum Wire and Cable From China

Requestor: Imperium Cables, LLC. (Imperium). Imperium's Type SER and Type URD aluminum conductor cables that are manufactured in Korea by Pusan Cables & Engineering Co., Ltd., and incorporate aluminum wire cable that is produced in China by Hebei Huatong Wires and Cables Group Co., Ltd. (Hebei Huatong), are not covered by the scope of the antidumping and countervailing duty orders, because the aluminum wire produced by Hebei Huatong is uninsulated and, therefore, does not meet the criterion of the scope. The scope of the orders provides that “at least one of the electrical conductors is insulated.” December 4, 2023.

A-570-117: Wood Mouldings and Millwork Products From China

Requestor: Chicago Dowel Company Inc. Small diameter wood dowels are covered by the scope of the antidumping and countervailing duty orders on wood mouldings and millwork products from China because they are made of wood, continuously shaped wood, and in the form of dowels: December 11, 2023.

Taiwan

A-583-865: Certain Carbon Alloy Steel Threaded Rod From Taiwan

Requestor: Component Technology International, Inc. Four types of collared studs (i.e., part numbers 2003.1027CTI, 2012.0306, 1405307CTI, and 1448160CTI) are not covered by the scope of the antidumping duty order because they are headed, not straight, and three of the four parts do not have a circular diameter. The scope excludes headed products and secondary sources support finding that these four types of certain collared studs are headed, and, thus, not covered. We issued the final decision on October 6, 2023.

A-583-865: Certain Carbon Alloy Steel Threaded Rod From Taiwan

Requestor: Component Technology International, Inc. Five types of collared studs (i.e., part numbers AF020710, B34-6005, 5445362/CTI, 2003.2021, and HW100149) are not covered by the scope of the antidumping duty order because they are headed, not straight, and do not have a circular diameter. The scope excludes headed products and secondary sources support finding that these five types of certain collared studs are headed, and, thus, not covered. We issued the final decision on November 17, 2023.

Thailand

A-549-837: Glycine From Thailand

Requestor: GEO Specialty Chemicals, Inc. Calcium glycinate is not covered by the scope of the antidumping duty order on glycine from Thailand because calcium glycinate is a precursor of glycine and calcium glycinate is not a type of glycine: October 11, 2023.

Notification to Interested Parties

Interested parties are invited to comment on the completeness of this list of completed scope inquiries and scope/circumvention inquiry combinations made during the period October 1, 2023, through December 31, 2023. Any comments should be submitted to the Deputy Assistant Secretary for AD/CVD Operations, Enforcement and Compliance, International Trade Administration, via email to CommerceCLU@trade.gov.

This notice is published in accordance with 19 CFR 351.225(o).

Dated: May 29, 2024.
James Maeder,
Deputy Assistant Secretary for Antidumping and Countervailing Duty Operations.

[FR Doc. 2024-12171 Filed 6-3-24; 8:45 am]

BILLING CODE 3510-DS-P